DEPARTMENT OF COMMERCE

Bureau of Industry and Security

In the Matter of: Shantia Hassanshahi, a/k/a Shantia Hassan Shahi, a/k/a Shahi, a/k/a Shantia Haas, a/k/a Sean Haas, 6041 Weeping Banyan Lane, Woodland Hills, CA 91367; Amended Order Denying Export Privileges

On December 12, 2016, in the U.S. District Court for the District of Columbia, Shantia Hassanshahi, a/k/a Shantia Hassan Shahi, a/k/a Shahi, a/k/a Shantia Haas, a/k/a Sean Haas (“Hassanshahi”) was convicted of violating the International Emergency Economic Powers Act (50 U.S.C. 1701, et seq. (2012)) (“IEEPA”). Specifically, Hassanshahi was convicted of willfully conspiring to export and cause the export of goods and technology from Canada to Iran, as well as services related thereto from the United States to Iran, without the required license from the U.S. Department of the Treasury's Office of Foreign Assets Control. Hassanshahi was sentenced to 12 months in prison, one year of supervised release, 100 hours of community service, and a $100 assessment.

On September 28, 2017, I issued an order denying Hassanshahi's export privileges, pursuant to Section 766.25 of the Export Administration Regulations (“EAR” or “Regulations”), for a period of five (5) years from the date his conviction.¹ In addition, pursuant to Section 750.8 of the Regulations, the order also revoked any licenses issued pursuant to the Act or Regulations in which Hassanshahi had an interest at the time of his conviction.

¹ The Regulations are currently codified in the Code of Federal Regulations at 15 CFR parts 730-774 (2017). The Regulations issued pursuant to the Export Administration Act (50 U.S.C. 4601-4623 (Supp. III 2015) (available at http://uscode.house.gov)) (“EAA” or “the Act”). Since August 21, 2001, the Act has been in lapse and the President, through Executive Order 13222 of August 17, 2001 (3 CFR, 2001 Comp. 783 (2002)), which has been extended by successive Presidential Notices, the most recent being that of August 15, 2017 (82 FR 39005 (Aug. 16, 2017)), has continued the Regulations in effect under the International Emergency Economic Powers Act (50 U.S.C. 1701, et seq. (2012)).

Prior to issuance of the September 28, 2017 order, the Bureau of Industry and Security (“BIS”), in accordance with Section 766.25 of the Regulations, provided Hassanshahi notice of the proposed action and an opportunity to make a written submission opposing it. Notice was provided using the prison address for Hassanshahi, who received the notice letter on or about July 22, 2017, more than two months prior to the order's issuance. BIS did not receive a submission or other response to the Notice from Hassanshahi. The September 28, 2017 order—which issued based upon my review of the facts available to BIS at the time and my consultations with BIS's Office of Export Enforcement, including its Director—listed Hassanshahi's prison address as his last known address.

Following issuance of the September 28, 2017 order, BIS sought to send a copy of it to Hassanshahi at his prison address via first class mail. However, the package was returned to BIS, as it apparently arrived at the prison at or about the time Hassanshahi was being released. BIS has subsequently obtained updated information indicating that Hassanshahi's current address is 6041 Weeping Banyan Lane, Woodland Hills, CA 91367. Thus, the September 28, 2017 order needs to be amended to include the updated address information for purposes of the denial of Hassanshahi's export privileges. In addition, as set forth below, this amended order shall be delivered to Hassanshahi at his current address in Woodland Hills, California, and shall be published in the Federal Register.

Accordingly, it is hereby ordered:

First, from the date of this Order until December 12, 2021, Shantia Hassanshahi, a/k/a Shantia Hassan Shahi, a/k/a Shahi, a/k/a Shantia Haas, a/k/a Sean Haas, with a last known address of 6041 Weeping Banyan Lane, Woodland Hills, CA 91367, and when acting for or on his behalf, his successors, assigns, employees, agents or representatives (“the Denied Person”), may not, directly or indirectly, participate in any way in any transaction involving any commodity, software or technology (hereinafter collectively referred to as “item”) exported or to be exported from the United States that is subject to the Regulations, including, but not limited to:

A. Applying for, obtaining, or using any license, license exception, or export control document;

B. Carrying on negotiations concerning, or ordering, buying, receiving, using, selling, delivering, storing, disposing of, forwarding, transporting, financing, or otherwise servicing in any way, any transaction involving any item exported or to be exported from the United States that is subject to the Regulations, or engaging in any other activity subject to the Regulations; or

C. Benefitting in any way from any transaction involving any item exported or to be exported from the United States that is subject to the Regulations, or from any other activity subject to the Regulations.

Second, no person may, directly or indirectly, do any of the following:

A. Export or reexport to or on behalf of the Denied Person any item subject to the Regulations;

B. Take any action that facilitates the acquisition or attempted acquisition by the Denied Person of the ownership, possession, or control of any item subject to the Regulations that has been or will be exported from the United States, including financing or other support activities related to a transaction whereby the Denied Person acquires or attempts to acquire such ownership, possession or control;

C. Take any action to acquire from or to facilitate the acquisition or attempted acquisition from the Denied Person of any item subject to the Regulations that has been exported from the United States;

D. Obtain from the Denied Person in the United States any item subject to the Regulations with knowledge or reason to know that the item will be, or is intended to be, exported from the United States; or

E. Engage in any transaction to service any item subject to the Regulations that has been or will be exported from the United States and which is owned, possessed or controlled by the Denied Person, or service any item, of whatever origin, that is owned, possessed or controlled by the Denied Person if such service involves the use of any item subject to the Regulations that has been or will be exported from the United States. For purposes of this paragraph, servicing means installation, maintenance, repair, modification or testing.

Third, after notice and opportunity for comment as provided in Section 766.23 of the Regulations, any other person, firm, corporation, or business organization related to Hassanshahi by ownership, control, position of responsibility, affiliation, or other connection in the conduct of trade or business may also be made subject to the provisions of this Order in order to prevent evasion of this Order.

Fourth, in accordance with Part 756 of the Regulations, Hassanshahi may file an appeal of this Order with the Under Secretary of Commerce for Industry and Security. The appeal must be filed within 45 days from the date of this Order and must comply with the provisions of Part 756 of the Regulations.

Fifth, a copy of this Order shall be delivered to Hassanshahi, and shall be published in the Federal Register.

Sixth, this Order is effective immediately and shall remain in effect until December 12, 2021.

Issued this 4th day of December, 2017.
Karen H. Nies-Vogel,
Director, Office of Exporter Services.

[FR Doc. 2017-26564 Filed 12-8-17; 8:45 am]

BILLING CODE P